SECURITIES AND EXCHANGE COMMISSION

[File No. 500-1]

In the Matter of American Teletronics, Inc., n/k/a: Shine Holdings, Inc., Order of Suspension of Trading

June 21, 2007.

It appears to the Securities and Exchange Commission that there is a lack of current and accurate information concerning the securities of American Teletronics, Inc., n/k/a Shine Holdings, Inc., because it has not filed any periodic reports since the period ended September 30, 1996.

The Commission is of the opinion that the public interest and the protection of investors require a suspension of trading in the securities of the above-listed company.

Therefore, it is ordered, pursuant to Section 12(k) of the Securities Exchange Act of 1934, that trading in American Teletronics, Inc., n/k/a Shine Holdings, Inc., is suspended for the period from 9:30 a.m. EDT on June 21, 2007, through 11:59 p.m. EDT on July 5, 2007.

By the Commission.
Nancy M. Morris,
Secretary.

[FR Doc. 07-3113 Filed 6-11-07; 11:30 am]

BILLING CODE 8010-01-P